DEPARTMENT OF STATE

[Public Notice 6445]

APEC 2011 Leaders' Meeting Announcement of Deadline Extension

Summary: The deadline for United States cities and major resort/hotel destinations to submit proposals to hold the concluding series of meetings of the Asia Pacific Economic Cooperation (APEC) forum scheduled for November 12-20, 2011, has been extended from December 15, 2008, to January 5, 2009. The description of the request for proposals appeared in public notice 6428 published on November 19, 2008, in the Federal Register.

Dated: December 2, 2008.
Edward Malcik,
Director, Office of International Conferences, Department of State.

[FR Doc. E8-28975 Filed 12-5-08; 8:45 am]

BILLING CODE 4710-19-P